DEPARTMENT OF HEALTH AND HUMAN SERVICES

National Institutes of Health

Proposed Collection; Comment Request; The National Institute on Deafness and Other Communication Disorders Health Information Customer Satisfaction Survey

SUMMARY: In compliance with the requirement of Section 3506(c)(2)(A) of the Paperwork Reduction Act of 1995, for opportunity for public comment on proposed data collection projects, the National Institute on Deafness and Other Communication Disorders (NIDCD), the National Institutes of Health (NIH) will publish periodic summaries of proposed projects to be submitted to the Office of Management and Budget (OMB) for review and approval.

Proposed Collection

Title: NIDCD Health Information Customer Satisfaction Survey. Type of Information Collection Request: New. Need and Use of Information Collection: The NIDCD was established in 1988 to conduct and support biomedical and behavioral research and research training in the normal and disordered processes of hearing, balance, smell, taste, voice, speech, and language. In support of its mission, the Institute disseminates health education and information material related to deafness and other communication disorders to health professionals, patients, people in industry, and the public. The NIDCD will conduct a survey to evaluate the efficacy of its health messages and the effectiveness of disseminating health-related information materials through the NIDCD Information Clearinghouse. The proposed survey is expected to yield data that will assist with measuring the effectiveness and efficiency of the NIDCD health education outreach efforts by collecting and then tracking data about the users of the health information. Frequency of Response: On occasion. Affected Public: Individuals or households; businesses or other for-profit; not-for-profit institutions; State, Local, or Tribal; Federal Government. Type of Respondents: Patients and relatives of patients, general public, physicians and other professionals. The annual reporting burden is as follows: Estimated Number of Respondents: 1,000; Estimated Number of Responses per Respondent: 1; Average Burden Hours Per Response: .0668; and Estimated Total Annual Burden Hours Requested: 668. An estimate of annualized cost to respondents for the hour burden for this information collection is presented in the table below. There are no direct costs to the respondents themselves but the cost to them may be calculated in terms of the costs of their time spent in responding to the questions. The estimated annualized cost to respondents would be: $12,859.00. There are no Capital Costs to report. There are no Operating or Maintenance Costs to report.

Request for Comments

Written comments and/or suggestions from the public and affected agencies are invited on one or more of the following points: (1) Whether the proposed collection of information is necessary for the proper performance of the function of the agency, including whether the information will have practical utility; (2) The Accuracy of the agency's estimate of the burden of the proposed collection of information, including the validity of the methodology and assumptions used; (3) Ways to enhance the quality, utility, and clarity of the information to be collected; and (4) Ways to minimize the burden of the collection of information on those who are to respond, including the use of appropriated automated, electronic, mechanical, or other technological collection techniques or other forms of information technology.

FOR FURTHER INFORMATION CONTACT: To request more information on the proposed project or to obtain a copy of the data collection plans and instruments, contact Dr. Marin Allen, Chief, Office of Health Communication and Public Liaison (OHCPL), or Shirley LaBella, Deputy Chief, OHCPL, OD, NIDCD, NIH, Blg. 31, Room 3C-35, 9000 Rockville Pike, Bethesda, MD 20892, or call non-toll-free number (301) 496-7243 or E-mail your request, including your address to: nidcdinfo@nidcd.nih.gov

COMMENTS DUE DATE: Comments regarding this information collection are best assured of having their full effect if received on or before April 24, 2001.

Dated: February 14, 2001.
W. David Kerr,
Executive Officer, NIDCD.

[FR Doc. 01-4588 Filed 2-22-01; 8:45 am]

BILLING CODE 4140-01-M